DEPARTMENT OF TRANSPORTATION

Federal Aviation Administration

14 CFR Part 39

[Docket No. FAA-2024-1480; Project Identifier MCAI-2023-00930-A; Amendment 39-22851; AD 2024-19-09]

RIN 2120-AA64

Airworthiness Directives; DAHER (Type Certificate Previously Held by SOCATA) Airplanes

AGENCY: Federal Aviation Administration (FAA), DOT.

ACTION: Final rule.

SUMMARY: The FAA is superseding Airworthiness Directive (AD) 2016-08-08 for all SOCATA (type certificate now held by DAHER) Model MS 880B, MS 885, MS 892A-150, MS 892E-150, MS 893A, MS 893E, MS 894A, MS 894E, Rallye 100S, Rallye 150ST, Rallye 150T, Rallye 235C, and Rallye 235E airplanes. AD 2016-08-08 required doing repetitive detailed visual inspections of the intersection between the axle radius and the nose landing gear (NLG) fork area for chafing; doing repetitive dye penetrant inspections on the NLG wheel axle for cracks, distortion, and nicks or wear; doing corrective actions if necessary; and replacing the NLG wheel axle attachment screws with new screws. This AD is prompted by the introduction of a new inspection method and a new design for the affected NLG wheel axle that provides terminating action for the repetitive inspections, as specified in updated service information published by the manufacturer. This AD requires preparing, inspecting, replacing, reconditioning the NLG wheel axle, and prohibiting affected parts. The FAA is issuing this AD to address the unsafe condition on these products.

DATES: This AD is effective November 26, 2024.

The Director of the Federal Register approved the incorporation by reference of a certain publication listed in this AD as of November 26, 2024.

ADDRESSES:

AD Docket: You may examine the AD docket at regulations.gov under Docket No. FAA-2024-1480; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Daher Aerospace material identified in this AD, contact Daher Aerospace, Customer Support, Airplane Division, 65921 Tarbes Cedex 9, France; phone: 33 (0)5 62.41.73.00; email: tbmcare@daher.com; website: daher.com.

• You may view this material at the FAA, Airworthiness Products Section, Operational Safety Branch, 901 Locust, Kansas City, MO 64106. For information on the availability of this material at the FAA, call (817) 222-5110. It is also available at regulations.gov under Docket No. FAA-2024-1480.

FOR FURTHER INFORMATION CONTACT: Fred Guerin, Aviation Safety Engineer, FAA, 1600 Stewart Avenue, Suite 410, Westbury, NY 11590; phone: (206) 231-2346; email: fred.guerin@faa.gov.

SUPPLEMENTARY INFORMATION:

Background

The FAA issued a notice of proposed rulemaking (NPRM) to amend 14 CFR part 39 to supersede AD 2016-08-08, Amendment 39-18484 (81 FR 21711, April 13, 2016) (AD 2016-08-08). AD 2016-08-08 applied to SOCATA (type certificate now held by DAHER) Model MS 880B, MS 885, MS 892A-150, MS 892E-150, MS 893A, MS 893E, MS 894A, MS 894E, Rallye 100S, Rallye 150ST, Rallye 150T, Rallye 235C, and Rallye 235E airplanes.

AD 2016-08-08 was prompted by MCAI originated by European Union Aviation Safety Agency (EASA), which is the Technical Agent for the Member States of the European Union. EASA issued AD 2015-0203, dated October 7, 2015 (EASA AD 2015-0203) to correct an unsafe condition identified as fatigue failure of the NLG wheel axle. EASA AD 2015-0203 was prompted by an NLG wheel axle failure that occurred in service. The investigation revealed that this failure was due to fatigue caused by premature wear. EASA AD 2015-0203 required retaining the requirements of Direction Générale de l'Aviation Civile (DGAC) France AD 91-163(A)R2, dated March 30, 1994, which was superseded, but required those actions to be accomplished within reduced intervals.

AD 2016-08-08 required doing repetitive detailed visual inspections of the intersection between the axle radius and the NLG fork area for chafing; doing repetitive dye penetrant inspections on the NLG wheel axle for cracks, distortion, and nicks or wear; corrective actions if necessary; and replacing the NLG wheel axle attachment screws with new screws. The FAA issued AD 2016-08-08 to address chafing and cracking of the NLG wheel axle, which could lead to failure of the NLG with consequent damage to the airplane and/or injury to occupants.

Since the FAA issued AD 2016-08-08, EASA superseded EASA AD 2015-0203 and issued EASA AD 2023-0080, dated April 17, 2023 (EASA AD 2023-0080) (also referred to as the MCAI) to correct an unsafe condition for all DAHER AEROSPACE Model MS 880 B, MS 880 B-D, MS 881, MS 883, MS 884, MS 885, MS 886, MS 887, MS 890 A, MS 890 B, MS 892 A.150, MS 892 B.150, MS 892 E.150, MS 892 E-D.150, MS 893 A, MS 893 B, MS 893 E, MS 893 E-D, MS 894 A, MS 894 E, RALLYE 100 S, RALLYE 100 S-D, RALLYE 100 ST, RALLYE 100 ST-D, RALLYE 110 ST, RALLYE 150 ST, RALLYE 150 ST-D, RALLYE 150 T, RALLYE 150 T-D, RALLYE 150 SV, RALLYE 150 SVS, RALLYE 180 T, RALLYE 180 TS, RALLYE 180 T-D, RALLYE 235 A, RALLYE 235 F, RALLYE 235 E, and RALLYE 235 E-D airplanes.

The MCAI states that it retains the requirements of EASA AD 2015-0203 but introduces a new inspection method and a new design of the NLG wheel axle as a terminating action for the repetitive detailed inspections. You may examine the MCAI in the AD docket at regulations.gov under Docket No. FAA-2024-1480.

The NPRM published in the Federal Register on June 4, 2024 (89 FR 47879). In the NPRM, the FAA proposed to retain none of the requirements of AD 2016-08-08. The NPRM proposed to require repetitively inspecting the NLG wheel axle and, if chafing, cracking, or damage was found, installing the newly designed NLG wheel axle and attachment screws, which would terminate the actions specified in the proposed AD. The NPRM also proposed a magnetic particle inspection after a visual inspection if no damage was found, or when installing an airworthy part that was previously in service. The NPRM also proposed to require repetitively replacing the NLG wheel axle attachment screws.

Discussion of Final Airworthiness Directive

Comments

The FAA received no comments on the NPRM or on the determination of the costs.

Change Since NPRM Was Published

The NPRM proposed to require repetitively replacing the NLG wheel axle attachment screws every 2,000 hours time-in-service (TIS). The FAA re-evaluated this requirement and determined that clarification of the intent of this requirement is needed. The FAA revised paragraph (i) of this AD to clarify that any screw found to be distorted, scratched, nicked, or worn during any repetitive inspection required by paragraph (h)(1) of this AD must be replaced before further flight. If no screw is found to be distorted, scratched, nicked, or worn during any repetitive inspection required by paragraph (h)(1) of this AD, all of the NLG wheel axle attachment screws must be replaced initially before exceeding 2,000 hours TIS total on the airplane; before exceeding 2,000 hours TIS since the last time the attachment screws were replaced; or within 50 hours TIS after the effective date of this AD, whichever occurs later, and repetitively thereafter at intervals not to exceed 2,000 hours TIS after the last replacement.

Conclusion

These products have been approved by the aviation authority of another country and are approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on these products. Except for the change described previously, this AD is adopted as proposed in the NPRM. This change will not increase the economic burden on any operator.

Material Incorporated by Reference Under 1 CFR Part 51

The FAA reviewed Daher Service Bulletin SB 150, Revision 4, dated January 2023. This material specifies procedures for preparing, inspecting, replacing, and reconditioning the NLG wheel axle. This material also specifies procedures for replacing the NLG wheel axle attachment screws.

This material is reasonably available because the interested parties have access to it through their normal course of business or by the means identified in the ADDRESSES section.

Differences Between This AD and the MCAI

The applicability of the MCAI includes DAHER AEROSPACE Model MS 886, MS 887, MS 890 A, MS 890 B, MS 892 B.150, MS 892 E-D.150, MS 893 B, MS 893 E-D, RALLYE 100 S-D, RALLYE 100 ST, RALLYE 100 ST-D, RALLYE 110 ST, RALLYE 150 ST-D, RALLYE 150 T-D, RALLYE 150 SV, RALLYE 150 SVS, RALLYE 180 T, RALLYE 180 TS, RALLYE 180 T-D, RALLYE 235 A, RALLYE 235 F, and RALLYE 235 E-D airplanes and the applicability of this AD does not because these models do not have an FAA type certificate.

Costs of Compliance

The FAA estimates that this AD affects 32 airplanes of U.S. registry.

The FAA estimates the following costs to comply with this AD:

Estimated Costs
Action | Labor cost | Parts cost | Cost per product | Cost on U.S. operators
Magnetic particle inspection | 1 work-hour × $85 per hour = $85 | $100 | $185 | $5,920.
Inspection of the NLG wheel bearing and axle surface and attachment screws | 2 work-hours × $85 per hour = $170 (per inspection cycle) | $100 | $270 (per inspection cycle) | $8,640.
NLG wheel axle attachment screw replacement | 1 work-hour × $85 per hour = $85 (per cycle) | $50 (per cycle) | $135 (per cycle) | $4,320 (per cycle).

The FAA estimates the following costs to do any necessary action that would be required based on the results of the inspections. The agency has no way of determining the number of airplanes that might need this action:

On-condition costs
Action | Labor cost | Parts cost | Cost per product
Installation of a nose gear wheel axle (including NLG wheel spacer) and attachment screw replacement | 2 work-hours × $85 per hour = $170 | $1,000 | $1,170

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2016-08-08, Amendment 39-18484 (81 FR 21711, April 13, 2016); and

b. Adding the following new airworthiness directive:

2024-19-09 DAHER (Type Certificate previously held by SOCATA): Amendment 39-22851; Docket No. FAA-2024-1480; Project Identifier MCAI-2023-00930-A.

(a) Effective Date

This airworthiness directive (AD) is effective November 26, 2024.

(b) Affected ADs

This AD replaces AD 2016-08-08, Amendment 39-18484 (81 FR 21711, April 13, 2016).

(c) Applicability

This AD applies to DAHER (type certificate previously held by SOCATA) Model MS 880B, MS 885, MS 892A-150, MS 892E-150, MS 893A, MS 893E, MS 894A, MS 894E, Rallye 100S, Rallye 150ST, Rallye 150T, Rallye 235C, and Rallye 235E airplanes, all serial numbers, certificated in any category.

(d) Subject

Joint Aircraft System Component (JASC) Code 3220, Nose/Tail Landing Gear.

(e) Unsafe Condition

This AD was prompted by a report of a nose landing gear (NLG) wheel axle failure in service. The FAA is issuing this AD to address chafing and cracking of the NLG wheel axle. The unsafe condition, if not addressed, could lead to failure of the NLG with consequent damage to the airplane and injury to occupants.

(f) Compliance

Comply with this AD within the compliance times specified, unless already done.

(g) Definitions

For the purpose of this AD the following definitions apply:

(1) Group 1 Airplanes: Airplanes having any affected parts installed as of the effective date of this AD.

(2) Group 2 Airplanes: Airplanes that do not have any affected parts installed as of the effective date of this AD.

(3) Affected Parts: NLG wheel axles having part number (P/N) 8954200270 and NLG wheel spacer having P/N 8954200260.

(4) Serviceable Parts: NLG wheel axles having P/N AV-RAL-001-01 and NLG wheel spacer having P/N AV-RAL-002-01.

(5) New Part: Any part that has zero hours time-in-service (TIS).

(h) Inspections and Axle Replacement For Group 1 Airplanes

(1) Within 200 hours TIS after the effective date of this AD, and thereafter at intervals not to exceed 200 hours TIS, perform a detailed visual inspection for chafing and cracking between the NLG wheel bearing and axle surface in accordance with paragraphs B.1 and B.2 of Daher Service Bulletin SB 150, Revision 4, dated January 2023 (Daher SB 150, Revision 4).

(2) If any chafing or cracking is found during any inspection required by paragraph (h)(1) of this AD, before further flight, replace the NLG wheel axle with one of the following:

(i) An NLG wheel axle that is found to be free of chafing and cracking per the inspection required by paragraph (h)(1) of this AD and free of damage per the inspection required by paragraph (h)(3) of this AD.

(ii) Serviceable parts, as defined in this AD, in accordance with paragraphs C.2 through C.4 of Daher SB 150, Revision 4. This part installation makes the airplane a Group 2 airplane and terminates the inspection requirements in this AD.

(3) If no chafing or cracking is found during any inspection required by paragraph (h)(1) of this AD, before further flight, do a magnetic particle inspection of the NLG wheel axle for damage (distortion, nicks, wear, and cracking).

(4) If any damage is found during any magnetic particle inspection required by paragraph (h)(3) of this AD, before further flight, replace the NLG wheel axle with one of the following:

(i) An NLG wheel axle that is found to be free of chafing and cracking per the inspection required by paragraph (h)(1) of this AD and free of damage per the inspection required by paragraph (h)(3) of this AD.

(ii) Serviceable parts, as defined in this AD, in accordance with paragraphs C.2 through C.4 of Daher SB 150, Revision 4. This part installation makes the airplane a Group 2 airplane and terminates the inspection requirements in this AD.

(i) NLG Wheel Axle Attachment Screw Replacement For Group 1 and Group 2 Airplanes

Replace the NLG wheel axle attachment screws in accordance with paragraph C.2 of Daher SB 150, Revision 4, as follows:

(1) If no screw is found to be distorted, scratched, nicked, or worn during any repetitive inspection required by paragraph (h)(1) of this AD, replace all of the NLG wheel axle attachment screws as follows:

(i) Initially before exceeding 2,000 hours TIS total on the airplane; before exceeding 2,000 hours TIS since the last time the attachment screws were replaced; or within 50 hours TIS after the effective date of this AD, whichever occurs later; and

(ii) Repetitively thereafter at intervals not to exceed 2,000 hours TIS after the last replacement.

(2) If any screw is found to be distorted, scratched, nicked, or worn during any repetitive inspection required by paragraph (h)(1) of this AD, replace that screw before further flight.

(j) Installation Prohibition For Group 1 and Group 2 Airplanes

As of the effective date of this AD, do not install an affected NLG wheel axle, as defined in this AD, on any airplane, unless the criteria in paragraphs (j)(1) and (2) of this AD are met:

(1) The affected NLG wheel axle is found to be free of chafing and cracking per the inspection required by paragraph (h)(1) of this AD and free of damage per the inspection required by paragraph (h)(3) of this AD.

(2) The NLG wheel axle attachment screws are replaced with new screws.

(k) Credit for Previous Actions

You may take credit for the initial actions required by paragraphs (h) and (i) of this AD if you performed those actions before the effective date of this AD using SOCATA SB 150, Revision 2; or Daher-SOCATA SB 150, Revision 3.

(l) Alternative Methods of Compliance (AMOCs)

The Manager, International Validation Branch, FAA, has the authority to approve AMOCs for this AD, if requested using the procedures found in 14 CFR 39.19. In accordance with 14 CFR 39.19, send your request to your principal inspector or local Flight Standards District Office, as appropriate. If sending information directly to the manager of the International Validation Branch, mail it to the address identified in paragraph (m)(1) of this AD or email to: AMOC@faa.gov. If mailing information, also submit information by email. Before using any approved AMOC, notify your appropriate principal inspector, or lacking a principal inspector, the manager of the local Flight Standards Office.

(m) Additional Information

(1) For more information about this AD, contact Fred Guerin, Aviation Safety Engineer, FAA, 1600 Stewart Avenue, Suite 410, Westbury, NY 11590; phone: (206) 231-2346; email: fred.guerin@faa.gov.

(2) Material identified in this AD that is not incorporated by reference is available at the address specified in paragraph (n)(3) of this AD.

(n) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Daher Service Bulletin SB 150, Revision 4, dated January 2023.

(ii) [Reserved]

(3) For Daher Aerospace material identified in this AD, contact Daher Aerospace, Customer Support, Airplane Division, 65921 Tarbes Cedex 9, France; phone: 33 (0)5 62.41.73.00; email: tbmcare@daher.com; website: daher.com.

(4) You may view this material at the FAA, Airworthiness Products Section, Operational Safety Branch, 901 Locust, Kansas City, MO 64106. For information on the availability of this material at the FAA, call (817) 222-5110.

(5) You may view this material at the National Archives and Records Administration (NARA). For information on the availability of this material at NARA, visit www.archives.gov/federal-register/cfr/ibr-locations or email fr.inspection@nara.gov.

Issued on October 10, 2024.
Steven W. Thompson,
Acting Deputy Director, Compliance & Airworthiness Division, Aircraft Certification Service.

[FR Doc. 2024-24368 Filed 10-21-24; 8:45 am]

BILLING CODE 4910-13-P